DEPARTMENT OF COMMERCE

National Oceanic and Atmospheric Administration

[I.D. 051701F]

Marine Mammals; File No. 1007-1629

AGENCY: National Marine Fisheries Service (NMFS), National Oceanic and Atmospheric Administration (NOAA), Commerce.

ACTION: Receipt of application.

SUMMARY: Notice is hereby given that Leszek Karczmarski, Ph.D., Marine Mammal Research Program, Texas A&M University, 4700 Avenue U, Building 303, Galveston, Texas 77551, has applied in due form for a permit to take spinner dolphins, Stenella longirostris, for purposes of scientific research.

DATES: Written or telefaxed comments must be received on or before June 25, 2001.

ADDRESSES: The application and related documents are available for review upon written request or by appointment in the following office(s):

Permits and Documentation Division, Office of Protected Resources, NMFS, 1315 East-West Highway, Room 13705, Silver Spring, MD 20910; phone (301) 713-2289; fax (301) 713-0376; and

Protected Species Coordinator, Pacific Area Office, NMFS, 1601 Kapiolani Blvd., Rm, 1110, Honolulu, HI 96814-4700; phone (808) 973-2935; fax (808) 973-2941; and

Southwest Region, NMFS, 501 West Ocean Blvd., Suite 4200, Long Beach, CA 90802-4213; phone (562) 980-4001; fax (562) 980-4018.

FOR FURTHER INFORMATION CONTACT: Jill Lewandowski or Lynne Barre, (301) 713-2289.

SUPPLEMENTARY INFORMATION: The subject permit is requested under the authority of the Marine Mammal Protection Act of 1972, as amended (MMPA; 16 U.S.C. 1361 et seq.) and the Regulations Governing the Taking and Importing of Marine Mammals (50 CFR part 216).

Specific research objectives include: (a) comparing population structure and social behavior; (b) assessing the genetic differences between the groups/populations in the three atolls and estimating the rate of gene flow; (c) determining intra- and inter-group associations and intra- and inter-sexual relationships; (d) assessing the effects of social behavior on genetic diversity and population structure relative to the geographic distance between the atolls; and (e) producing an evolutionary model of spinner dolphin social structure and mating system relative to habitat, where both ecological and social selective pressures are considered.

In meeting these research objectives, the applicant requests authorization to take 1,400 individual spinner dolphins annually by photo-identification and behavioral observation (both above and below water) and 400 individual spinner dolphins annually through the collection of genetic swab samples with a maximum of 700 swab samples collected over the course of the permit. The applicant also requests authorization to take additional individual spinner dolphins incidental to the above listed research activities.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: May 5, 2001.
E. Ruth Johnson,
Acting Chief, Permits and Documentation Division, Office of Protected Resources, National Marine Fisheries Service.

[FR Doc. 01-13173 Filed 5-23-01; 8:45 am]

BILLING CODE 3510-22-S